DEPARTMENT OF THE INTERIOR

Bureau of Land Management

[BLM_NV_FRN_MO 4500170680]

Public Land Order No. 7924; Extension of Public Land Order No. 7566; Rhyolite Historic Site; Nevada

AGENCY: Bureau of Land Management, Interior.

ACTION: Public Land Order.

SUMMARY: This Order extends the duration of the withdrawal created by Public Land Order (PLO) No. 7566 for an additional 20-year term. PLO No. 7566 withdrew 277.05 acres of public lands from settlement, sale, location, or entry under the general land laws, including the United States mining laws, but not the mineral leasing laws, subject to valid existing rights, to protect the Rhyolite Historic Site located in Nye County, Nevada.

DATES: This Public Land Order takes effect on May 20, 2023.

FOR FURTHER INFORMATION CONTACT: Frederick Marcell, BLM Nevada State Office, at 202-389-2978, email: fmarcell@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose for which the withdrawal was first made requires this extension in order to continue the protection of the Rhyolite Historic Site. This withdrawal is maintained by the BLM State Office under serial number N-73931.

Order

By virtue of the authority vested in the Secretary of the Interior by Section 204(f) of the Federal Land Policy and Management Act of 1976, 43 U.S.C. 1714(f), it is ordered as follows:

1. PLO No. 7566 (68 FR 27580 (2003)), which withdrew 277.05 acres of public lands from settlement, sale, location, or entry under the general land laws, including the United States mining laws, but not the mineral leasing laws, subject to valid existing rights, to protect the Rhyolite Historic Site, is hereby extended for an additional 20-year period.

2. This withdrawal extended by this Order will expire on May 19, 2043, unless, as a result of a review conducted prior to the expiration date pursuant to Section 204(f) of the Federal Land Policy and Management Act of 1976, 43 U.S.C. 1714(f), the Secretary determines that the withdrawal shall be further extended.

(Authority: 43 U.S.C. 1714(f))

Robert T. Anderson,
Solicitor.

[FR Doc. 2023-10836 Filed 5-18-23; 8:45 am]

BILLING CODE 4331-21-P